SECURITIES AND EXCHANGE COMMISSION

Submission for OMB Review; Comment Request

Upon Written Request Copies Available From: Securities and Exchange Commission, Office of Filings and Information Services, Washington, DC 20549.

Survey on Reciprocal Subpoena Enforcement: SEC File No. 270-479, OMB Control No. 3235-new.

Notice is hereby given that, pursuant to the Paperwork Reduction Act of 1995 (44 U.S.C. 3501 et seq.), the Securities and Exchange Commission (“Commission”) has submitted to the Office of Management and Budget a request to approve the collection of information discussed below.

The survey is called the Securities and Exchange Commission Survey on Reciprocal Subpoena Enforcement. The staff created the survey pursuant to a Congressional directive in the Securities Litigation Uniform Standards Act of 1998 (“1998 Act”). The 1998 Act requires the Commission, in consultation with state securities commissions (or similar agencies) to “seek to encourage the adoption of State laws providing for reciprocal enforcement by State securities commissions of subpoenas issued by another State securities commission. * * *.” The 1998 Act further requires the SEC to submit a report to Congress by November 2000 which identifies the states that have adopted such laws, describes the actions the Commission and the state commissions have taken to promote such laws, and identifies any further actions the Commission recommends for such purposes.

The survey seeks information regarding (1) the states' laws authorizing providing assistance to other states with subpoenas, (2) the states' experiences in seeking assistance from other states with their subpoenas, (3) the states' experiences in requesting assistance from other states with their subpoenas and (4) each state's proposals and suggestions regarding reciprocal subpoena enforcement. The Commission will use the information gathered in the survey to write the report to Congress.

The survey will be sent to all of the states, the District of Columbia and Puerto Rico. It is estimated that there will be approximately 52 respondents to the survey and that each full response will take approximately 30 minutes. Thus, the total reporting burden of the survey will be about 26 hours. The survey is voluntary and may be completed at the option of the recipient. Responses will not be kept confidential. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW, Washington, DC 20549. Comments must be submitted to OMB within 30 days of this notice.

Dated: April 11, 2000.
Margaret H. McFarland,
Deputy Secretary.

[FR Doc. 00-9954 Filed 4-20-00; 8:45 am]

BILLING CODE 8010-01-M